DEPARTMENT OF ENERGY

Federal Energy Regulatory Commission

Combined Notice of Filings #1

Take notice that the Commission received the following electric corporate filings:

Docket Numbers: EC21-2-000.

Applicants: Milligan 1 Wind LLC.

Description: Application for Authorization Under Section 203 of the Federal Power Act, et al. of Milligan 1 Wind LLC.

Filed Date: 10/1/20.

Accession Number: 20201001-5219.

Comments Due: 5 p.m. ET 10/22/20.

Take notice that the Commission received the following exempt wholesale generator filings:

Docket Numbers: EG21-1-000.

Applicants: Muscle Shoals Solar, LLC.

Description: Notice of Self-Certification of Exempt Wholesale Generator Status of Muscle Shoals Solar, LLC.

Filed Date: 10/1/20.

Accession Number: 20201001-5242.

Comments Due: 5 p.m. ET 10/22/20.

Take notice that the Commission received the following electric rate filings:

Docket Numbers: ER20-2201-002.

Applicants: GridLiance High Plains LLC.

Description: Compliance filing: Gridliance HP Revised Winfield Joint Ownership Agreement to be effective 9/1/2020.

Filed Date: 10/1/20.

Accession Number: 20201001-5180.

Comments Due: 5 p.m. ET 10/22/20.

Docket Numbers: ER20-2726-001.

Applicants: Grand Energy, LLC.

Description: Tariff Amendment: Amendment to MBR Application Filing to be effective 9/1/2020.

Filed Date: 10/2/20.

Accession Number: 20201002-5040.

Comments Due: 5 p.m. ET 10/23/20.

Docket Numbers: ER20-3047-000.

Applicants: Public Service Company of New Mexico.

Description: § 205(d) Rate Filing: PNM EIM OATT Tariff Changes Attachment S to be effective 4/1/2021.

Filed Date: 9/30/20.

Accession Number: 20200930-5191.

Comments Due: 5 p.m. ET 10/21/20.

Docket Numbers: ER21-10-000

Applicants: Pacific Gas and Electric Company.

Description: § 205(d) Rate Filing: Amendment to Interim Black Start Agreement (RS 234) 2020 to be effective 11/30/2020.

Filed Date: 10/1/20.

Accession Number: 20201001-5246.

Comments Due: 5 p.m. ET 10/22/20.

Docket Numbers: ER21-11-000.

Applicants: Consolidated Edison Company of New York, Inc.

Description: § 205(d) Rate Filing: Amendment PASNY Tariff 10-1-2020 to be effective 10/1/2020.

Filed Date: 10/1/20.

Accession Number: 20201001-5276.

Comments Due: 5 p.m. ET 10/22/20.

Docket Numbers: ER21-12-000.

Applicants: NECEC Transmission LLC.

Description: Baseline eTariff Filing: Notice of Succession (Eversource) to be effective 10/2/2020.

Filed Date: 10/2/20.

Accession Number: 20201002-5048.

Comments Due: 5 p.m. ET 10/23/20.

Docket Numbers: ER21-13-000.

Applicants: NECEC Transmission LLC.

Description: Compliance filing: Notice of Succession (National Grid) to be effective 12/31/9998.

Filed Date: 10/2/20.

Accession Number: 20201002-5056.

Comments Due: 5 p.m. ET 10/23/20.

Docket Numbers: ER21-14-000.

Applicants: NECEC Transmission LLC.

Description: Compliance filing: Notice of Succession (Unitil) to be effective 12/31/9998.

Filed Date: 10/2/20.

Accession Number: 20201002-5057.

Comments Due: 5 p.m. ET 10/23/20.

Docket Numbers: ER21-15-000.

Applicants: NECEC Transmission LLC.

Description: Compliance filing: Notice of Succession (HQUS Eversource) to be effective 12/31/9998.

Filed Date: 10/2/20.

Accession Number: 20201002-5066.

Comments Due: 5 p.m. ET 10/23/20.

Docket Numbers: ER21-16-000.

Applicants: Public Service Company of Colorado.

Description: Tariff Cancellation: 2020-10-02_PSCo-NXER-Neptune-E&P-0.1.0-NOC to be effective 10/3/2020.

Filed Date: 10/2/20.

Accession Number: 20201002-5067.

Comments Due: 5 p.m. ET 10/23/20.

Docket Numbers: ER21-17-000.

Applicants: NECEC Transmission LLC.

Description: Compliance filing: Notice of Succession (HQUS National Grid) to be effective 12/31/9998.

Filed Date: 10/2/20.

Accession Number: 20201002-5068.

Comments Due: 5 p.m. ET 10/23/20.

Docket Numbers: ER21-18-000.

Applicants: NECEC Transmission LLC.

Description: Compliance filing: Notice of Succession (HQUS Unitil) to be effective 12/31/9998.

Filed Date: 10/2/20.

Accession Number: 20201002-5070.

Comments Due: 5 p.m. ET 10/23/20.

Docket Numbers: ER21-19-000.

Applicants: NECEC Transmission LLC.

Description: Compliance filing: Notice of Succession (HQUS Additional) to be effective 12/31/9998.

Filed Date: 10/2/20.

Accession Number: 20201002-5079.

Comments Due: 5 p.m. ET 10/23/20.

Docket Numbers: ER21-20-000.

Applicants: Central Maine Power Company.

Description: Tariff Cancellation: Notice of Cancellation to be effective 12/31/9998.

Filed Date: 10/2/20.

Accession Number: 20201002-5098.

Comments Due: 5 p.m. ET 10/23/20.

Docket Numbers: ER21-21-000.

Applicants: Harts Mill Solar, LLC.

Description: Baseline eTariff Filing: Reactive Power Compensation Filing to be effective 12/1/2020.

Filed Date: 10/2/20.

Accession Number: 20201002-5109.

Comments Due: 5 p.m. ET 10/23/20.

Docket Numbers: ER21-22-000.

Applicants: PacifiCorp.

Description: § 205(d) Rate Filing: BPA—NITSA (WEID) to be effective 10/1/2020.

Filed Date: 10/2/20.

Accession Number: 20201002-5114.

Comments Due: 5 p.m. ET 10/23/20.

Docket Numbers: ER21-23-000.

Applicants: Tri-State Generation and Transmission Association, Inc.

Description: § 205(d) Rate Filing: Filing of Service Agreement No. 612 to be effective 9/28/2020.

Filed Date: 10/2/20.

Accession Number: 20201002-5132.

Comments Due: 5 p.m. ET 10/23/20.

Docket Numbers: ER21-24-000.

Applicants: Tri-State Generation and Transmission Association, Inc.

Description: § 205(d) Rate Filing: Rate Schedule FERC No. 315 between Tri-State and SLVREC to be effective 11/5/2020.

Filed Date: 10/2/20.

Accession Number: 20201002-5153.

Comments Due: 5 p.m. ET 10/23/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2020.
Nathaniel J. Davis, Sr.,
Deputy Secretary.

[FR Doc. 2020-22327 Filed 10-7-20; 8:45 am]

BILLING CODE 6717-01-P